DEPARTMENT OF JUSTICE

Notice of Lodging Proposed Consent Decree

In accordance with Departmental Policy, 28 CFR 50.7, notice is hereby given that a proposed Consent Decree in United States v. Power Poles, Inc., United States District Court for the District of Puerto Rico, Civil No. 07-1802 (FAB) (Docket 2), was lodged with the United States District Court for the District of Puerto Rico on August 30, 2007.

This proposed Consent Decree concerns a complaint filed by the United States against Power Poles, Inc., pursuant to Section 301(a) of the Clean Water Act, 33 U.S.C. 1311(a), to obtain injunctive relief and impose civil penalties against the Defendant for violating the Clean Water Act by discharging fill material without a permit into waters of the United States. The proposed Consent Decree resolves these allegations by requiring the Defendant to pay a civil penalty. In addition, the Consent Decree requires the Defendant to deposit funds into an escrow account for use as In Lieu Fee Mitigation.

The Department of Justice will accept written comments relating to this proposed Consent Decree for thirty (30) days from the date of publication of this Notice. Please address comments to Isabel Muñoz Acosta, Torre Chardón, Suite 1201, 350 Carlos Chardón Ave., San Juan, Puerto Rico 00918, and refer to United States v. Power Poles, Inc., United States District Court for the District of Puerto Rico, Civil No. 07-1802 (FAB) (Docket 2).

The proposed Consent Decree may be examined at the Clerk's Office, United States District Court for the District of Puerto Rico, 150 Carlos Chardón Street, San Juan, Puerto Rico 00918. In addition, the proposed Consent Decree may be viewed at http://www.usdoj.gov/enrd/Consent_Decrees.html.

Isabel Muñoz Acosta,
Assistant United States Attorney, for the District of Puerto Rico.

[FR Doc. 07-5153 Filed 10-18-07; 8:45 am]

BILLING CODE 4410-15-M